DEPARTMENT OF HEALTH AND HUMAN SERVICES

National Institutes of Health

Proposed Collection; Comment Request; Collection of Demographic and Smoking/Tobacco Use Information From NCI Cancer Information Service Clients

SUMMARY: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Collection of Demographic and Smoking/Tobacco Use Information from NCI Cancer Information Service Clients. Type of Information Collection Request: Revision of OMB no. 0925-0208 expiration date 11/30/2006. Need and Use of Information Collection: The NCI's Cancer Information Service (CIS) provides accurate and up-to-date cancer information to the public through a toll-free telephone number (1-800-4-CANCER) and LiveHelp, an online instant messaging service. In addition, CIS provides smoking cessation assistance through a telephone quitline (accessed through 1-800-44U-QUIT or 1-800-QUITNOW). Characterizing CIS clients is essential to customer service, program planning, and promotion. Currently CIS conducts a brief survey of a sample of telephone and LiveHelp clients at the end of usual service (OMB no. 0925-0208 expiration date 11/30/2006); the survey includes three customer service and five demographic questions (age, sex, race, ethnicity, education). This request is to supplement the current data collection activity by adding (1) four demographic questions related to income, health insurance coverage, and regular source of health care; and (2) a set of 20 smoking/tobacco use questions for individuals seeking smoking cessation assistance. The demographic questions will allow CIS to better measure the program's reach to underserved populations and program impacts on these populations. The smoking/tobacco use questions are necessary as part of the intake and needs assessment process for smoking cessation clients. The information collected about clients' smoking history, previous quit attempts, and motivations to quit smoking will enable Information Specialists to provide effective individualized counseling. Consistent with the current data collection, the proposed demographic and smoking intake questions will be asked of clients who are cancer patients, family members and friends of patients, and the general public. Also consistent with the current data collection, 25% of telephone and quitline clients will be sampled for the proposed demographic questions. If the call is the result of a special promotion, 50% of callers will be surveyed. Overall, it is estimated that 36% of telephone and quitline clients will be sampled for the demographic questions for an estimated annual total of 40,700 telephone clients and 2,400 quitline clients. Also consistent with the current data collection, the demographic questions will be asked of 50% of LiveHelp clients for an estimated annual total of 2,000 online clients. The higher sampling rate for LiveHelp clients is necessary due to the lower response rate among online clients. The proposed smoking intake questions will be asked of 100% of quitline clients for an annual total of approximately 6,700 clients. The combined total to be surveyed each year is approximately 49,400 CIS clients for a total of 2,478 annual burden hours. Frequency of Response: Single time. Affected Public: Individuals or households. Type of Respondents: Cancer patients, family members and friends of cancer patients, and general public who contact CIS via telephone or online. The annual reporting burden is as follows:

Table 1.—Respondent and Burden Estimates
Type of respondents | Estimated number of respondents | Estimated number of responses per respondent | Average burden hours per response | Estimated total annual burden hours requested
Telephone Clients (36% sampled):
Demographic questions only | 40,700 | 1 | .0178 | 724
Quitline Clients (36% sampled for demographic questions and 100% for smoking questions):
Demographic and smoking questions | 2,400 | 1 | .2678 | 643
Smoking questions only | 4,300 | 1 | .25 | 1,075
Subtotal Quitline Clients | 6,700 |  |  |
LiveHelp Clients (50% sampled):
Demographic questions | 2,000 | 1 | .0178 | 36
Total | 49,400 |  |  | 2,478

The annualized cost to respondents is estimated at approximately: $44,827. There are no Capital Costs, Operating Costs, or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Linda Squiers, PhD., Project Officer for Research, Cancer Information Service Branch, National Cancer Institute, NIH, 6116 Executive Blvd, MSC 8322, Rockville, MD, 20892-8322, or call non-toll-free number (301) 594-9075 or E-mail your request, including your address, to: squiersl@mail.nih.gov.

Comments Due Date: Comments regarding this information collection are best assured of having their full effect if received within 60 days of the date of this publication.

Dated: January 8, 2006.
Rachelle Ragland-Greene,
National Institutes of Health, NCI Project Clearance Liaison.

[FR Doc. E6-593 Filed 1-19-06; 8:45 am]

BILLING CODE 4167-01-P